DEPARTMENT OF DEFENSE

Office of the Secretary

[Docket No. DOD-2007-HA-0116]

Proposed Collection; Comment Request

AGENCY: Office of the Assistant Secretary of Defense for Health Affairs, DoD.

ACTION: Notice.

In accordance with section 3506(c)(2)(A) of the Paperwork Reduction Act of 1995, the Office of the Assistant Secretary of Defense for Health Affairs announces the proposed revision of a public information collection and seeks public comment on the provisions thereof. Comments are invited on: (a) Whether the proposed collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received January 28, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request information on this proposed information collection or to obtain a copy of the proposal and associated collection instruments, please write to the Office of the Assistant Secretary of Defense for Health Affairs (OASD), TRICARE Management Activity (TMA), HPA&E, Attn: Richard R. Bannick, Ph.D., 5111 Leesburg Pike, Suite 810, Falls Church, VA 22041-3206.

Title and OMB Number: Surveys on Viability of TRICARE Standard and TRICARE Extra; OMB Control Number 0720-0031.

Needs and Uses: As mandated by Congress, confidential surveys of civilian health care providers and beneficiaries who use TRICARE will be completed in TRICARE market areas within the United States. The provider survey will be used to determine how many providers accept new TRICARE Standard patients in each market. area. Surveys will be conducted in at least 40 locations in the United States each fiscal year from 2008 to 2011. Twenty locations will be TRICARE PRIME Service Areas and twenty locations will be geographic areas where TRICARE Prime is not offered.

Affected Public: Individuals and households.

Annual Burden Hours: 3,333.

Number of Respondents: 40,000.

Responses per Respondent: 1.

Average Burden per Response: 5 minutes.

Frequency: On occasion.

SUPPLEMENTARY INFORMATION:

Summary of Information Collection

The Health Program Analysis and Evaluation Directorate (HPA&E) under the authority of the Office of the Assistant Secretary of Defense (Health Affairs)/TRICARE Management Activity (OASD(HA)/TMA) will undertake an evaluation of the DoD's TRICARE Standard healthcare option. HPA&E will collect and analyze data that are necessary to meet the requirements outlined in section 702 of the Senate version of the National Defense Authorization Act (NDAA) for FY2008.

Activities include the collection and analyses of data obtained confidentially from civilian physicians (M.D.s & D.O.s) and at least psychologists within U.S. geographic areas. Specifically, mail surveys with telephone follow-up of civilian providers will be conducted in the TRICARE market areas to determine how many healthcare providers are accepting new patients under TRICARE Standard in each market area. The surveys will be conducted in at least 40 TRICARE geographic areas in the United States each fiscal year through and including fiscal year 2011. Representatives of TRICARE beneficiaries and selected provider groups will be consulted to identify potential locations.

In addition, section 702 of the FY 2008 National Defense Authorization Act (NDAA) requires the Department to conduct annual surveys of beneficiary access experience and the availability to access civilian providers under TRICARE Standard and Extra program through FY 2011. These issues address the interests of Congress in reconciliation of responses of providers and beneficiaries who use TRICARE.

Surveys of civilian healthcare providers (M.D.s and D.O.s) and beneficiaries eligible for TRICARE Standard/Extra care will be conducted in at least 40 TRICARE Prime service areas each year. The objective of this effort is to determine if TRICARE beneficiaries have difficulty in finding health care providers willing to provide services under Standard or Extra, and the extent to which providers in the area participate in Standard/Extra.

Dated: November 15, 2007.
Patricia L. Toppings,
Alternate OSD Federal Register Liaison Officer, Department of Defense.

[FR Doc. 07-5858 Filed 11-28-07; 8:45 am]

BILLING CODE 5001-06-M